DEPARTMENT OF THE INTERIOR

Bureau of Land Management

[WY-921-1430-ET; WYW 152450]

Notice of Proposed Withdrawal and Opportunity for Public Meeting; Wyoming

AGENCY: Bureau of Land Management, Interior.

ACTION: Notice.

SUMMARY: The Bureau of Land Management (BLM) proposes to withdraw approximately 521.83 acres of public land from surface entry and mining, and 208.03 acres of Federal reserved mineral interests underlying private surface estate from mining to protect important scenic, open space, and recreational resource values of the Beck Lake area in Park County. This notice closes the land for up to 2 years from surface entry and mining. The land will remain open to mineral leasing.

DATES: Comments and requests for a public meeting must be received by August 12, 2002.

ADDRESSES: Comments and requests should be sent to the BLM Wyoming State Director, P.O. Box 1828, Cheyenne, Wyoming 82003-1828.

FOR FURTHER INFORMATION CONTACT: Mike Blymyer, BLM Cody Field Office Manager, 1002 Blackburn, P.O. Box 518, Cody, Wyoming 82414, 307-578-5900, or Janet Booth, BLM Wyoming State Office, 307-775-6124.

SUPPLEMENTARY INFORMATION: On August 27, 2001, a petition/application was approved allowing the BLM to file an application to withdraw the following described public land and Federal reserved mineral interests from settlement, sale, location, or entry under the general land laws, including the mining laws, except for disposal under the Recreation and Public Purposes Act of 1926, as amended, subject to valid existing rights:

Sixth Principal Meridian

T. 52 N., R. 101 W.,

Sec. 6, lots 2 through 4, inclusive;

Sec. 7, lots 2 and 3, W½NE¼, SE¼NE¼, and E½NW¼.

T. 52 N., R. 102 W.,

Sec. 1, SE¼SE¼,S½NE¼SE¼;

Sec. 12, E½NE¼.

The area described contains approximately 521.83 acres of public surface and Federal minerals in Park County.

T. 52 N., R. 101 W.,

Sec. 6, lot 1.

T. 52 N., R. 102 W.,

Sec. 1, lots 3, 4, 5, 7, N½NE¼SE¼;

Sec. 12, lot 1.

The area described contains approximately 208.03 acres of Federal reserved minerals underlying private surface in Park County.

The purpose of the proposed withdrawal is to protect important scenic, open space, and recreational resource values pending further study and development of appropriate, and possibly longer-term, actions.

For a period of 90 days from the date of publication of this notice, all persons who wish to submit comments, suggestions, or objections in connection with the proposed withdrawal may present their views in writing to the undersigned officer of the BLM.

Notice is hereby given that an opportunity for a public meeting is afforded in connection with the proposed withdrawal. All interested persons who desire a public meeting for the purpose of being heard on the proposed withdrawal must submit a written request to the BLM Wyoming State Director within 90 days from the date of publication of this notice. Upon determination by the authorized officer that a public meeting will be held, a notice of time and place will be published in the Federal Register at least 30 days before the scheduled date of the meeting.

The application will be processed in accordance with the regulations set forth in 43 CFR 2300.

For a period of 2 years from the date of publication of this notice in the Federal Register, the land will be segregated as specified above unless the application is denied or canceled or the withdrawal is approved prior to that date. Licenses, permits, cooperative agreements, or discretionary land use authorizations of a temporary nature which will not significantly impact the values to be protected by the withdrawal may be allowed with the approval of an authorized officer of the BLM during the segregative period.

Dated: September 14, 2001.
Alan L. Kesterke,
Associate State Director.
Editorial Note: This document was received at the Office of the Federal Register on May 9, 2002.

[FR Doc. 02-12015 Filed 5-13-02; 8:45 am]

BILLING CODE 4310-22-P